DEPARTMENT OF AGRICULTURE

Food and Nutrition Service

Agency Information Collection Activities: State Administrative Expense Funds

AGENCY: Food and Nutrition Service (FNS), USDA.

ACTION: Notice.

SUMMARY: In accordance with the Paperwork Reduction Act of 1995, this notice invites the general public and other public agencies to comment on this proposed information collection. This collection is a revision of a currently approved collection for State administrative expense funds expended in the operation of the Child Nutrition Programs administered under the Child Nutrition Act of 1966.

DATES: Written comments must be received on or before November 28, 2022.

ADDRESSES: Comments may be sent to Penny Burke, Chief, Operational Support Branch, Food and Nutrition Service, U.S. Department of Agriculture, 1320 Braddock Place, Alexandria, VA 22314. Comments will also be accepted through the Federal eRulemaking Portal. Go to http://www.regulations.gov, and follow the online instructions for submitting comments electronically. All responses to this notice will be summarized and included in the request for Office of Management and Budget (OMB) approval and will become a matter of public record.

FOR FURTHER INFORMATION CONTACT: Requests for additional information or copies of this information collection should be directed to Penny Burke at (703) 305-3223, penny.burke@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments are also invited on the revised form FNS-525 included as part of this notice.

Title: 7 CFR part 235—State Administrative Expense Funds.

Form Number: FNS-525.

OMB Number: 0584-0067.

Expiration Date: December 31, 2022.

Type of Request: Revision of a currently approved collection.

Abstract: Section 7 of the Child Nutrition Act of 1966 (Pub. L. 89-642), 42 U.S.C. 1776, authorizes the Department to provide Federal funds to State agencies (SAs) for administering the Child Nutrition Programs (7 CFR parts 210, 215, 220, 226 and 250). State Administrative Expense (SAE) Funds, 7 CFR part 235, sets forth procedures and recordkeeping requirements for use by SAs in reporting and maintaining records of their need and use of SAE funds. A summary of the reporting and recordkeeping burden associated with this revision is presented in the table below.

In addition to FNS-525 Financial Status Report, which is used by the State agencies to report information related to the SAE funds, this collection has another form, FNS-777 Financial Status Report, associated with it. FNS-777 and its associated burden is approved under OMB# 0584-0594 Food Programs Reporting System (FPRS) (expiration date July 31, 2023) and therefore is not included in this collection. The recordkeeping requirements associated with FNS-777 and the burden for maintaining those records is included in this information collection.

For this revision, 245 hours of reporting burden is being reduced due to FNS-525 form revisions. The FNS-525 has been completely revised to eliminate duplication of effort. The information collected in the previous version is already available to FNS because it is collected in the FNS-777. The revised form was created to reflect the updated process for State Administrative Expense reallocation funding. It is included with this notice to allow for public comment. With these revisions, FNS estimates that the time to complete this form will decrease from 12 hours and 30 minutes to 2 hours and 15 minutes. The revised FNS-525 form is included with this Notice.

Affected Public: State, Local and Tribal Government. State Agencies are the respondents.

Estimated Number of Respondents: 83.

Estimated Number of Responses per Respondent: 39.651 across the entire collection. State agencies provide information on an annual basis.

Estimated Total Annual Responses: 3,291.

Estimated Hours per Response: 1.916 across the entire collection. The estimated time of response varies from 15 minutes to 8 hours.

Estimated Total Hours Annual Reporting Burden: 357.

Estimated Total Hours Annual Recordkeeping Burden: 5,949.

Estimated Total Annual Burden: 6,306.

Current OMB Inventory: 6,551.

Difference (requested with this renewal): −245.

Refer to the following table for estimated annual burden for each type of respondent:

Affected public | Estimated number of respondents | Number of responses per respondent | Estimated total annual responses | Estimated hours per response | Estimated total annual burden
Reporting
State Agencies | 83 | 2.036 | 169 | 2.112 | 357
Total Estimated Reporting Burden | 83 |  | 169 |  | 357
Recordkeeping
State Agencies | 83 | 37.614 | 3,122 | 1.906 | 5,949
Total Estimated Recordkeeping Burden | 83 |  | 3,122 |  | 5,949
Total of Reporting and Recordkeeping
Reporting | 83 | 2.036 | 169 | 2.112 | 357
Recordkeeping | 83 | 37.614 | 3,122 | 1.906 | 5,949
Total | 83 | 39.651 | 3,291 | 1.916 | 6,306

Tameka Owens,
Assistant Administrator, Food and Nutrition Service.

[FR Doc. 2022-20808 Filed 9-26-22; 8:45 am]

BILLING CODE 3410-30-P